DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more vessels that have that have been updated on OFAC's Specially Designated Nationals and Blocked Persons List (SDN List) based on OFAC's determination that one or more applicable legal criteria were satisfied. All property and interests in property subject to U.S. jurisdiction of these vessels remain blocked, and U.S. persons are generally prohibited from engaging in transactions with them.

DATES: See Supplementary Information section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

On April 27, 2023, OFAC published updated information for the following vessels on OFAC's SDN List, which remain blocked under the relevant sanctions authorities listed below.

Vessels

1. AMBER (f.k.a. FREEDOM; f.k.a. HARAZ) (5IM 597) Crude Oil Tanker 317,356DWT 163,660GRT Iran flag; Former Vessel Flag Cyprus; alt. Former Vessel Flag Tanzania; Additional Sanctions Information—Subject to Secondary Sanctions; Vessel Registration Identification IMO 9357406; MMSI 677049700 (vessel) [IRAN] (Linked To: NATIONAL IRANIAN TANKER COMPANY).

Identified on November 5, 2018 pursuant to E.O. 13599 “Blocking Property of the Government of Iran and Iranian Financial Institutions,” of February 5, 2012, 77 FR 6659, 3 CFR, 2012 Comp., p. 215 (E.O. 13599), as property in which the NATIONAL IRANIAN TANKER COMPANY has an interest.

2. ARGO I (f.k.a. AMOL; a.k.a. ARGO 1; f.k.a. CASTOR; f.k.a. CHRISTINA; f.k.a. SILVER CLOUD) (T2EM4) Crude/Oil Products Tanker 99,094DWT 56,068GRT Iran flag; Former Vessel Flag Malta; alt. Former Vessel Flag Tuvalu; alt. Former Vessel Flag Tanzania; Additional Sanctions Information—Subject to Secondary Sanctions; Vessel Registration Identification IMO 9187667; MMSI 256843000 (vessel) [IRAN] (Linked To: NATIONAL IRANIAN TANKER COMPANY).

Identified on November 5, 2018 pursuant to E.O. 13599 as property in which the NATIONAL IRANIAN TANKER COMPANY has an interest.

3. DAN (f.k.a. JUSTICE) Crude Oil Tanker Iran flag; Additional Sanctions Information—Subject to Secondary Sanctions; Vessel Registration Identification IMO 9357729 (vessel) [IRAN] (Linked To: NATIONAL IRANIAN TANKER COMPANY).

Identified on November 5, 2018 pursuant to E.O. 13599 as property in which the NATIONAL IRANIAN TANKER COMPANY has an interest.

4. DEEP SEA (f.k.a. DARAB) (9HEE9) Crude Oil Tanker 296,803DWT 160,576GRT Iran flag; Former Vessel Flag Malta; Additional Sanctions Information—Subject to Secondary Sanctions; Vessel Registration Identification IMO 9218492; MMSI 256862000 (vessel) [IRAN] (Linked To: NATIONAL IRANIAN TANKER COMPANY).

Identified on November 5, 2018 pursuant to E.O. 13599 as property in which the NATIONAL IRANIAN TANKER COMPANY has an interest.

5. DERYA Crude Oil Tanker Iran flag; Additional Sanctions Information—Subject to Secondary Sanctions; Vessel Registration Identification IMO 9569700 (vessel) [IRAN] (Linked To: NATIONAL IRANIAN TANKER COMPANY).

Identified on November 5, 2018 pursuant to E.O. 13599 as property in which the NATIONAL IRANIAN TANKER COMPANY has an interest.

6. DIAMOND II (f.k.a. DAMAVAND) (9HEG9) Crude Oil Tanker 297,013DWT 160,576GRT Iran flag; Former Vessel Flag Malta; Additional Sanctions Information—Subject to Secondary Sanctions; Vessel Registration Identification IMO 9218478; MMSI 256865000 (vessel) [IRAN] (Linked To: NATIONAL IRANIAN TANKER COMPANY).

Identified on November 5, 2018 pursuant to E.O. 13599 as property in which the NATIONAL IRANIAN TANKER COMPANY has an interest.

7. DINO I (f.k.a. INFINITY) (5IM411) Crude Oil Tanker Iran flag (NITC); Former Vessel Flag Tanzania; Additional Sanctions Information—Subject to Secondary Sanctions; Vessel Registration Identification IMO 9569671 (vessel) [IRAN] (Linked To: NATIONAL IRANIAN TANKER COMPANY).

Identified on November 5, 2018 pursuant to E.O. 13599 as property in which the NATIONAL IRANIAN TANKER COMPANY has an interest.

8. DIONA Crude Oil Tanker Iran flag; Additional Sanctions Information—Subject to Secondary Sanctions; Vessel Registration Identification IMO 9569695 (vessel) [IRAN] (Linked To: NATIONAL IRANIAN TANKER COMPANY).

Identified on November 5, 2018 pursuant to E.O. 13599 as property in which the NATIONAL IRANIAN TANKER COMPANY has an interest.

9. DORE (f.k.a. COMPANION; f.k.a. DAL LAKE; f.k.a. DAVAR) (5IM 593) Crude Oil Tanker 317,850DWT 164,241GRT Iran flag; Former Vessel Flag Cyprus; alt. Former Vessel Flag Tanzania; Additional Sanctions Information—Subject to Secondary Sanctions; Vessel Registration Identification IMO 9357717; MMSI 677049300 (vessel) [IRAN] (Linked To: NATIONAL IRANIAN TANKER COMPANY).

Identified on November 5, 2018 pursuant to E.O. 13599 as property in which the NATIONAL IRANIAN TANKER COMPANY has an interest.

10. DORENA (f.k.a. SKYLINE) (5IM632) Crude Oil Tanker Iran flag (NITC); Former Vessel Flag Tanzania; Additional Sanctions Information—Subject to Secondary Sanctions; Vessel Registration Identification IMO 9569669 (vessel) [IRAN] (Linked To: NATIONAL IRANIAN TANKER COMPANY).

Identified on November 5, 2018 pursuant to E.O. 13599 as property in which the NATIONAL IRANIAN TANKER COMPANY has an interest.

11. DOVER (f.k.a. DAYLAM) (9HEU9) Crude Oil Tanker 299,500DWT 160,576GRT Iran flag; Former Vessel Flag Malta; Additional Sanctions Information—Subject to Secondary Sanctions; Vessel Registration Identification IMO 9218466; MMSI 256872000 (vessel) [IRAN] (Linked To: NATIONAL IRANIAN TANKER COMPANY).

Identified on November 5, 2018 pursuant to E.O. 13599 as property in which the NATIONAL IRANIAN TANKER COMPANY has an interest.

12. DOWNY (f.k.a. DENA) (9HED9) Crude Oil Tanker 296,894DWT 160,576GRT Iran flag; Former Vessel Flag Malta; Additional Sanctions Information—Subject to Secondary Sanctions; Vessel Registration Identification IMO 9218480; MMSI 256861000 (vessel) [IRAN] (Linked To: NATIONAL IRANIAN TANKER COMPANY).

Identified on November 5, 2018 pursuant to E.O. 13599 as property in which the NATIONAL IRANIAN TANKER COMPANY has an interest.

13. DREAM II (f.k.a. DANESH; f.k.a. DECESIVE; f.k.a. LEADERSHIP) (5IM 592) Crude Oil Tanker 319,988DWT 164,241GRT Iran flag; Former Vessel Flag Cyprus; alt. Former Vessel Flag Tanzania; Additional Sanctions Information—Subject to Secondary Sanctions; Vessel Registration Identification IMO 9356593; MMSI 677049200 (vessel) [IRAN] (Linked To: NATIONAL IRANIAN TANKER COMPANY).

Identified on November 5, 2018 pursuant to E.O. 13599 as property in which the NATIONAL IRANIAN TANKER COMPANY has an interest.

14. DUNE Crude Oil Tanker Iran flag; Additional Sanctions Information—Subject to Secondary Sanctions; Vessel Registration Identification IMO 9569712 (vessel) [IRAN] (Linked To: NATIONAL IRANIAN TANKER COMPANY).

Identified on November 5, 2018 pursuant to E.O. 13599 as property in which the NATIONAL IRANIAN TANKER COMPANY has an interest.

15. FELICITY (f.k.a. LEYCOTHEA; f.k.a. ORIENTAL) Crude Oil Tanker Iran flag; Former Vessel Flag Panama; Additional Sanctions Information—Subject to Secondary Sanctions; Vessel Registration Identification IMO 9183934 (vessel) [IRAN] (Linked To: NATIONAL IRANIAN TANKER COMPANY).

Identified on November 5, 2018 pursuant to E.O. 13599 as property in which the NATIONAL IRANIAN TANKER COMPANY has an interest.

16. FOREST (f.k.a. FAEZ; f.k.a. FIANGA; f.k.a. MAESTRO; f.k.a. SATEEN) (T2DM4) Chemical/Products Tanker 35,124DWT 25,214GRT Iran flag; Former Vessel Flag Malta ; alt. Former Vessel Flag Tuvalu; alt. Former Vessel Flag Tanzania; Additional Sanctions Information—Subject to Secondary Sanctions; Vessel Registration Identification IMO 9283760; MMSI 572438210 (vessel) [IRAN] (Linked To: NATIONAL IRANIAN TANKER COMPANY).

Identified on November 5, 2018 pursuant to E.O. 13599 as property in which the NATIONAL IRANIAN TANKER COMPANY has an interest.

17. FORTUNE (f.k.a. IRAN FAZEL) (9BAC) Chemical/Products Tanker 35,155DWT 25,214GRT Iran flag; Additional Sanctions Information—Subject to Secondary Sanctions; Vessel Registration Identification IMO 9283746; MMSI 422303000 (vessel) [IRAN] (Linked To: NATIONAL IRANIAN TANKER COMPANY).

Identified on November 5, 2018 pursuant to E.O. 13599 as property in which the NATIONAL IRANIAN TANKER COMPANY has an interest.

18. HALTI (f.k.a. HORIZON; f.k.a. HORMOZ; f.k.a. SCORPIAN) (9HEK9) Crude Oil Tanker 299,261DWT 160,930GRT Iran flag; Former Vessel Flag Tuvalu; alt. Former Vessel Flag Tanzania; Additional Sanctions Information—Subject to Secondary Sanctions; Vessel Registration Identification IMO 9212890; MMSI 256870000 (vessel) [IRAN] (Linked To: NATIONAL IRANIAN TANKER COMPANY).

Identified on November 5, 2018 pursuant to E.O. 13599 as property in which the NATIONAL IRANIAN TANKER COMPANY has an interest.

19. HASNA (f.k.a. HARSIN; f.k.a. VALOR; f.k.a. “MARINA”) (5IM600) Crude Oil Tanker 299,229DWT 160,930GRT Iran flag; Former Vessel Flag Malta; alt. Former Vessel Flag Tanzania; Additional Sanctions Information—Subject to Secondary Sanctions; Vessel Registration Identification IMO 9212917; MMSI 677050000 (vessel) [IRAN] (Linked To: NATIONAL IRANIAN TANKER COMPANY).

Identified on November 5, 2018 pursuant to E.O. 13599 as property in which the NATIONAL IRANIAN TANKER COMPANY has an interest.

20. HEDY (f.k.a. HUWAYZEH) (9HEJ9) Crude Oil Tanker 299,242DWT 160,930GRT Iran flag; Former Vessel Flag Malta; Additional Sanctions Information—Subject to Secondary Sanctions; Vessel Registration Identification IMO 9212888; MMSI 256869000 (vessel) [IRAN] (Linked To: NATIONAL IRANIAN TANKER COMPANY).

Identified on November 5, 2018 pursuant to E.O. 13599 as property in which the NATIONAL IRANIAN TANKER COMPANY has an interest.

21. HELM (f.k.a. HIRMAND; f.k.a. HONESTY; f.k.a. MILLIONAIRE) (T2DZ4) Crude Oil Tanker 317,356DWT 163,660GRT Iran flag; Former Vessel Flag Cyprus; alt. Former Vessel Flag Tuvalu; alt. Former Vessel Flag Tanzania; Additional Sanctions Information—Subject to Secondary Sanctions; Vessel Registration Identification IMO 9357391; MMSI 572450210 (vessel) [IRAN] (Linked To: NATIONAL IRANIAN TANKER COMPANY).

Identified on November 5, 2018 pursuant to E.O. 13599 as property in which the NATIONAL IRANIAN TANKER COMPANY has an interest.

22. HENNA (f.k.a. HALISTIC; f.k.a. HAMOON; f.k.a. LENA; f.k.a. TAMAR) (T2EQ4) Crude Oil Tanker 299,242DWT 160,930GRT Iran flag; Former Vessel Flag Malta; alt. Former Vessel Flag Tuvalu; alt. Former Vessel Flag Tanzania; Additional Sanctions Information—Subject to Secondary Sanctions; Vessel Registration Identification IMO 9212929; MMSI 572465210 (vessel) [IRAN] (Linked To: NATIONAL IRANIAN TANKER COMPANY).

Identified on November 5, 2018 pursuant to E.O. 13599 as property in which the NATIONAL IRANIAN TANKER COMPANY has an interest.

23. HERBY (f.k.a. EXPLORER; f.k.a. HODA; f.k.a. HYDRA; f.k.a. PRECIOUS) (T2EH4) Crude Oil Tanker 317,356DWT 163,660GRT Iran flag; Former Vessel Flag Cyprus; alt. Former Vessel Flag Tuvalu; alt. Former Vessel Flag Tanzania; Additional Sanctions Information—Subject to Secondary Sanctions; Vessel Registration Identification IMO 9362059; MMSI 572458210 (vessel) [IRAN] (Linked To: NATIONAL IRANIAN TANKER COMPANY).

Identified on November 5, 2018 pursuant to E.O. 13599 as property in which the NATIONAL IRANIAN TANKER COMPANY has an interest.

24. HERO II (f.k.a. HADI; f.k.a. PIONEER; f.k.a. ZEUS) (T2EJ4) Crude Oil Tanker 317,355DWT 163,650GRT Iran flag; Former Vessel Flag Cyprus; alt. Former Vessel Flag Tuvalu; Additional Sanctions Information—Subject to Secondary Sanctions; Vessel Registration Identification IMO 9362073; MMSI 572459210 (vessel) [IRAN] (Linked To: NATIONAL IRANIAN TANKER COMPANY).

Identified on November 5, 2018 pursuant to E.O. 13599 as property in which the NATIONAL IRANIAN TANKER COMPANY has an interest.

25. HILDA I (f.k.a. COURAGE; f.k.a. HOMA) (5IM 596) Crude Oil Tanker 317,367DWT 163,660GRT Iran flag; Former Vessel Flag Cyprus; alt. Former Vessel Flag Tanzania; Additional Sanctions Information—Subject to Secondary Sanctions; Vessel Registration Identification IMO 9357389; MMSI 677049600 (vessel) [IRAN] (Linked To: NATIONAL IRANIAN TANKER COMPANY).

Identified on November 5, 2018 pursuant to E.O. 13599 as property in which the NATIONAL IRANIAN TANKER COMPANY has an interest.

26. HUGE (f.k.a. HATEF; f.k.a. MAJESTIC; f.k.a. “GLORY”) (T2EG4) Crude Oil Tanker 317,367DWT 163,660GRT Iran flag; Former Vessel Flag Cyprus; alt. Former Vessel Flag Tuvalu; alt. Former Vessel Flag Tanzania; Additional Sanctions Information—Subject to Secondary Sanctions; Vessel Registration Identification IMO 9357183; MMSI 212256000 (vessel) [IRAN] (Linked To: NATIONAL IRANIAN TANKER COMPANY).

Identified on November 5, 2018 pursuant to E.O. 13599 as property in which the NATIONAL IRANIAN TANKER COMPANY has an interest.

27. HUMANITY (f.k.a. OCEAN NYMPH) Crude Oil Tanker Iran flag; Former Vessel Flag Panama; alt. Former Vessel Flag Mongolia; Additional Sanctions Information—Subject to Secondary Sanctions; Vessel Registration Identification IMO 9180281 (vessel) [IRAN].

Identified on November 5, 2018 pursuant to E.O. 13599 as property in which the NATIONAL IRANIAN TANKER COMPANY has an interest.

28. NAVARZ (f.k.a. ELITE; f.k.a. NAPOLI; f.k.a. NOAH; f.k.a. VOYAGER) (T2DQ4) Crude Oil Tanker 298,731DWT 156,809GRT Iran flag; Former Vessel Flag Malta; alt. Former Vessel Flag Tuvalu; alt. Former Vessel Flag Tanzania; Additional Sanctions Information—Subject to Secondary Sanctions; Vessel Registration Identification IMO 9079078; MMSI 572441210 (vessel) [IRAN] (Linked To: NATIONAL IRANIAN TANKER COMPANY).

Identified on November 5, 2018 pursuant to E.O. 13599 as property in which the NATIONAL IRANIAN TANKER COMPANY has an interest.

29. SALINA (f.k.a. BLACKSTONE; f.k.a. SARV; f.k.a. SPLENDOUR) (9HNZ9) Crude Oil Tanker 163,870DWT 85,462GRT Iran flag; Former Vessel Flag Malta; alt. Former Vessel Flag Tuvalu; alt. Former Vessel Flag Seychelles; Additional Sanctions Information—Subject to Secondary Sanctions; Vessel Registration Identification IMO 9357377; MMSI 249257000 (vessel) [IRAN] (Linked To: NATIONAL IRANIAN TANKER COMPANY).

Identified on November 5, 2018 pursuant to E.O. 13599 as property in which the NATIONAL IRANIAN TANKER COMPANY has an interest.

30. STREAM (f.k.a. FORTUN; f.k.a. SONATA; a.k.a. YARD NO. 1222 SHANGHAI WAIGAOQIAO) Crude Oil Tanker 318,000DWT 165,000GRT Iran flag; Former Vessel Flag Malta; Additional Sanctions Information—Subject to Secondary Sanctions; Vessel Registration Identification IMO 9569633 (vessel) [IRAN] (Linked To: NATIONAL IRANIAN TANKER COMPANY).

Identified on November 5, 2018 pursuant to E.O. 13599 as property in which the NATIONAL IRANIAN TANKER COMPANY has an interest.

Dated: April 27, 2023.
Andrea Gacki,
Director, Office of Foreign Assets Control, U.S. Department of the Treasury.

[FR Doc. 2023-09298 Filed 5-1-23; 8:45 am]

BILLING CODE 4810-AL-P